FEDERAL COMMUNICATIONS COMMISSION

47 CFR Part 73

[DA 02-2315, MB Docket No. 02-130, RM-10438]

Digital Television Broadcast Service; Des Moines, IA

AGENCY: Federal Communications Commission.

ACTION: Final rule.

SUMMARY: The Commission, at the request of Frank Duross, Kaleidoscope Partners, Caroline K. Powley, JJJH, LLP, Stead Communications, and ValueVision International, Inc., applicants for a new television station to operate on analog channel 69 at Des Moines, Iowa, substitutes DTV channel 56 for channel 69 at Des Moines. See 67 FR 39932, June 11, 2002. DTV channel 56 can be allotted to Des Moines in compliance with the principle community coverage requirements of Section 73.625(a) at coordinates 41-38-05 N. and 93-34-46 W. with a power of 1000, HAAT of 151 meters and with a DTV service population of 645 thousand. With is action, this proceeding is terminated.

DATES: Effective November 8, 2002.

FOR FURTHER INFORMATION CONTACT: Pam Blumenthal, Media Bureau, (202) 418-1600.

SUPPLEMENTARY INFORMATION: This is a synopsis of the Commission's Report and Order, MB Docket No. 02-130, adopted September 18, 2002, and released September 24, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under Iowa, is amended by removing TV channel 69 at Des Moines.

§ 73.622 [Amended]

3. Section 73.622(b), the Table of Digital Television Allotments under Iowa, is amended by adding DTV channel 56 at Des Moines.

Federal Communications Commission.
Barbara A. Kreisman,
Chief, Video Division, Media Bureau.

[FR Doc. 02-24896 Filed 9-30-02; 8:45 am]

BILLING CODE 6712-01-P